DEPARTMENT OF TRANSPORTATION

Federal Aviation Administration

14 CFR Part 39

[Docket No. FAA-2015-0675; Directorate Identifier 2014-NM-213-AD; Amendment 39-18340; AD 2015-25-02]

RIN 2120-AA64

Airworthiness Directives; Airbus Airplanes

AGENCY: Federal Aviation Administration (FAA), Department of Transportation (DOT).

ACTION: Final rule.

SUMMARY: We are adopting a new airworthiness directive (AD) for certain Airbus Model A330-200, -200 Freighter, and -300 series airplanes; and all Airbus Model A340-200, -300, -500, and -600 series airplanes. This AD was prompted by reports of cracks at certain frames of the forward cargo door. This AD requires a detailed inspection for cracking of certain forward cargo doors, and repair if necessary. We are issuing this AD to detect and correct cracking at certain frames, which could result in the loss of structural integrity of the forward cargo door.

DATES: This AD becomes effective January 26, 2016.

The Director of the Federal Register approved the incorporation by reference of a certain publication listed in this AD as of January 26, 2016.

ADDRESSES: You may examine the AD docket on the Internet at http://www.regulations.gov/#!docketDetail;D=FAA-2015-0675; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0675.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200, -200 Freighter, and -300 series airplanes; and all Airbus Model A340-200, -300, -500, and -600 series airplanes. The NPRM published in the Federal Register on March 31, 2015 (80 FR 17000). We are issuing this AD to detect and correct cracking at certain frames, which could result in the loss of structural integrity of the forward cargo door.

The European Aviation Safety Agency (EASA), which is the Technical Agent for the Member States of the European Union, has issued EASA Airworthiness Directive 2014-0228, dated October 20, 2014 (referred to after this as the Mandatory Continuing Airworthiness Information, or “the MCAI”), to correct an unsafe condition for certain Airbus Model A330-200, -200 Freighter, and -300 series airplanes; and all Airbus Model A340-200, -300, -500, and -600 series airplanes. The MCAI states:

An A330 aeroplane operator reported recently cases of crack findings on two different aeroplanes, at frame 20A and at frame 20B close to beam 3 of the forward cargo door. The first finding was detected during scheduled maintenance, while the second one was found during an inspection prompted by the first finding. Subsequent analyses of these cracks identified that the first crack initiated at frame 20B, which is the first primary load path, leading to excessive loads at frame 20A and consequent cracking. Nevertheless, on the other aeroplane, a crack was detected on frame 20A only. Rupture of both frames 20A and 20B could lead to frame 21 failure after a limited number of flight cycles (FC).

This condition, if not detected and corrected, may potentially result in the loss of structural integrity of the forward cargo door, which could ultimately jeopardise the aeroplane's safe flight.

Prompted by these findings, Airbus issued Alert Operators Transmission (AOT) A52L010-14 to provide instructions for a one-time inspection of frames 20A, 20B and 21 in the area of beam 3, until the half pitch between beam 2 and beam 3.

For the reasons described above, this [EASA] AD requires identification of the Part Number (P/N) of the affected forward cargo doors, a one-time detailed inspection (DET) of each affected door and, depending on findings, accomplishment of applicable corrective action(s) [contacting Airbus].

This [EASA] AD is considered to be an interim action and further AD action may follow.

Required actions also include sending inspection results to Airbus. You may examine the MCAI in the AD docket on the Internet at http://www.regulations.gov/#!documentDetail;D=FAA-2015-0675-0002.

Correction for Service Information Typo

On page 1 of Airbus AOT A52L010-14, dated September 30, 2014, at section “2. Referenced Documentation,” “Ref. 5” specifies page block “PB.801,” which is incorrect. This page block should be “PB.401” instead. We have added new paragraph (k) to this AD to account for this correction, and have redesignated subsequent paragraphs.

Comments

We gave the public the opportunity to participate in developing this AD. The following presents the comments received on the NPRM (80 FR 17000, March 31, 2015) and the FAA's response to each comment.

Request To Revise Part Number List Sequencing

American Airlines (AA) requested that we revise the proposed AD (80 FR 17000, March 31, 2015) by swapping the part numbers listed in paragraphs (g)(1)(ii) and (g)(1)(x) of the proposed AD to maintain alphanumeric order. American Airlines reasoned that the flow of the list is confusing.

We agree to revise paragraphs (g)(1)(ii) and (g)(1)(x) of this AD for the reasons requested by American Airlines.

Request for Justification

AA asked whether a root cause has been determined that justifies the proposed inspection threshold. AA noted that paragraph (g)(1) of the proposed AD (80 FR 17000, March 31, 2015) proposed that inspections on all affected doors be completed within 200 flight cycles from the effective date of the AD. AA further noted from Airbus AOT A52L010-14, dated September 30, 2014, that the service events that led to the issuance of this inspection occurred on airplanes with 16,170 and 16,556 total accumulated flight cycles. Following release of Airbus AOT A52L010-14, dated September 30, 2014, AA reported that it completed four inspections in accordance with Airbus AOT A52L010-14, dated September 30, 2014, with no findings, and those inspected airplanes had accumulated 8,849 to 9,093 total flight cycles.

We infer that AA considers the proposed compliance times to be unjustifiably short. We disagree to revise the compliance times in this AD. At the time of issuance of EASA AD 2014-0228, dated October 20, 2014, it had been determined that fatigue calculations were showing low life factors at frame C20B. After a failure of frame C20B, the edge member C20A would be overloaded and could potentially fail within 800 flight cycles, according to damage tolerance calculations. The failure of the tow frame would be catastrophic. Therefore the decision was made to mandate a one-time inspection with a compliance time of within 200 flight cycles after the effective date of this AD, which corresponds to the compliance time specified in EASA AD 2014-0228, dated October 20, 2014. We have made no changes to this AD in this regard.

Request for Credit for Reporting

AA requested that we revise paragraph (i)(2) of the proposed AD (80 FR 17000, March 31, 2015) to allow credit for reporting that has already been accomplished before the effective date of this AD. AA explained that the proposed AD would require operators to submit a report within 30 days after the AD effective date if the inspection was done before the effective date of the AD. AA reasoned that this does not allow for credit to be taken for reports that were submitted in accordance with Airbus AOT A52L010-14, dated September 30, 2014, prior to the AD effective date. AA requested that paragraph (i)(2) of the proposed AD state, “[i]f the inspection was done before the effective date of this AD: Submit the report within 30 days after the effective date of this AD, unless the inspection report was previously submitted.”

We agree to allow credit for reporting that has already been accomplished before the effective date of this AD. The compliance time in paragraph (i)(2) of this AD is within 30 days after the effective date of this AD. Reports submitted before that compliance time, including those submitted before the effective date of this AD (as specified in paragraph (f) of this AD), are acceptable for compliance with paragraph (i)(2) of this AD. We have made no changes to this AD in this regard.

Request To Revise Applicability

Delta requested that we limit the applicability of the proposed AD to airplanes equipped with any of the forward cargo doors with the manufacturer part numbers (MPNs) listed in paragraphs (g)(1)(i) through (g)(1)(xii) of the proposed AD. Delta noted that paragraphs (c)(1) and (c)(2) of the proposed AD would apply to the identified airplane models, unless Modification 202702 had been embodied in production on certain airplanes.

Delta stated it had requested clarification from Airbus about the relationship between the MPNs identified in paragraphs (g)(1)(i) through (g)(1)(xii) of the proposed AD and airplanes in the pre-Mod 50528 configuration, as specified in Airbus AOT A52L010-14, dated September 30, 2014. According to Delta, Airbus confirmed via Airbus Message 80036162, dated April 1, 2015, that because cargo doors are components and can be swapped during in-service life, Airbus had intentionally extended the affected airplanes for the required inspections to include pre-Mod 202702 airplanes that may have affected doors. Delta then reasoned that since operators can track the modification status only by the individual airplane, the applicability should be written to include the MPNs to ensure that operators understand which airplanes are affected by the AD.

We disagree with the request to limit the applicability of this AD (paragraph (c) of this AD) to airplanes having the MPNs identified in paragraphs (g)(1)(i) through (g)(1)(xii) of this AD. The “Parts Installation Prohibition” specified in paragraph (j) of this AD applies to all airplanes identified in the paragraph (c) of this AD to ensure the affected MPNs are not installed on those airplanes. However, the inspection required by paragraph (g) of this AD is limited to airplanes having the affected MPNs. We have therefore made no changes to this AD in this regard.

Request To Revise Cost

Delta requested that we revise the “Costs of Compliance” paragraph in the NPRM (80 FR 17000, March 31, 2015) to state, “However, Airbus has confirmed that out of qty (260) affected MPN Fwd cargo doors inspected, all were reported with NIL [no findings] findings.” Delta agreed that there is no way of determining the number of aircraft that might need the corrective actions for inspection findings, but added that the compliance window of 200 flight cycles for the inspection is a fairly short compliance window and may likely need to be accomplished in a line environment. Delta expressed that it may be prudent to communicate to operators that out of a quantity of 260 forward cargo doors already inspected, there have been NIL findings (as noted in Airbus Message 80036162, dated April 1, 2015).

We agree with Delta's request and have revised the “Costs of Compliance” paragraph accordingly in this final rule.

Request for Records Review

Delta requested that we revise paragraph (g)(1) of the proposed AD (80 FR 17000, March 31, 2015) to allow for a records review if the part number can be conclusively determined from that review. Delta reasoned that without this provision, the operators may consider a physical review of each forward cargo door to be required.

For the reason stated by Delta, we agree to allow for a review of airplane maintenance records to verify whether cargo doors with part numbers listed in paragraphs (g)(1)(i) through (g)(1)(xii) of this AD are installed on the airplane. We have revised paragraph (g)(1) of this AD accordingly.

Conclusion

We reviewed the relevant data, considered the comments received, and determined that air safety and the public interest require adopting this AD with the changes described previously and minor editorial changes. We have determined that these minor changes:

• Are consistent with the intent that was proposed in the NPRM (80 FR 17000, March 31, 2015) for correcting the unsafe condition; and

• Do not add any additional burden upon the public than was already proposed in the NPRM (80 FR 17000, March 31, 2015).

We also determined that these changes will not increase the economic burden on any operator or increase the scope of this AD.

Related Service Information Under 1 CFR Part 51 C

Airbus has issued AOT A52L010-14, dated September 30, 2014. The service information describes procedures for an inspection for and repair of cracking of certain forward cargo doors. This service information is reasonably available because the interested parties have access to it through their normal course of business or by the means identified in the ADDRESSES section.

Costs of Compliance

We estimate that this AD affects 89 airplanes of U.S. registry.

We also estimate that it will take about 1 work-hour per product to comply with the basic requirements of this AD. The average labor rate is $85 per work-hour. Required parts will cost $0 per product. Based on these figures, we estimate the cost of this AD on U.S. operators to be $7,565, or $85 per product.

In addition, we estimate that any necessary follow-on actions will take about 32 work-hours and require parts costing $654,850, for a cost of $657,570 per product. We have no way of determining the number of airplanes that might need these actions. However, Airbus has confirmed that out of 260 affected MPN forward cargo doors already inspected, all were reported with NIL findings; therefore, we anticipate that few, if any, airplanes will require these follow-on actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0675; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-25-02 Airbus: Amendment 39-18340. Docket No. FAA-2015-0675; Directorate Identifier 2014-NM-213-AD.

(a) Effective Date

This AD becomes effective January 26, 2016.

(b) Affected ADs

None.

(c) Applicability

This AD applies to the airplanes identified in paragraphs (c)(1) and (c)(2) of this AD, certificated in any category.

(1) Airbus Model A330-201, -202, -203, -223, -223F, -243, -243F, -301, -302, -303, -321, -322, -323, -341, -342, and -343 airplanes, all manufacturer serial numbers, except those on which Airbus Modification 202702 has been embodied in production.

(2) Airbus Model A340-211, -212, -213, -311, -312, -313, -541, and -642 airplanes, all manufacturer serial numbers.

(d) Subject

Air Transport Association (ATA) of America Code 52, Doors.

(e) Reason

This AD was prompted by reports of cracks at certain frames of the forward cargo door. We are issuing this AD to detect and correct cracking at certain frames, which could result in the loss of structural integrity of the forward cargo door.

(f) Compliance

Comply with this AD within the compliance times specified, unless already done.

(g) Inspection and Repair

(1) Within 200 flight cycles after the effective date of this AD, do a detailed inspection for cracking of an affected forward cargo door, having a part number identified in paragraphs (g)(1)(i) through (g)(1)(xii) of this AD, at frames 20A, 20B, and 21 areas located above beam 3, from outside and inside, in accordance with Airbus Alert Operators Transmission (AOT) A52L010-14, dated September 30, 2014, except as required by paragraph (k) of this AD. A review of airplane maintenance records is acceptable to determine if an affected forward cargo door is installed provided that the part number of the forward cargo door can be conclusively determined from that review.

(i) F523-70500-000.

(ii) F523-70500-004.

(iii) F523-70500-006.

(iv) F523-70500-008.

(v) F523-70500-010.

(vi) F523-70500-012.

(vii) F523-70500-014.

(viii) F523-70550-000.

(ix) F523-70550-002.

(x) F523-70550-004.

(xi) F523-70550-008.

(xii) F523-70550-050.

(2) If any crack is found during the inspection required by paragraph (g)(1) of this AD, before further flight, repair using a method approved by the Manager, International Branch, ANM-116, Transport Airplane Directorate, FAA; or the European Aviation Safety Agency (EASA); or Airbus's EASA Design Organization Approval (DOA).

(h) Definition of Detailed Inspection

For the purposes of this AD, a detailed inspection is an intensive examination of a specific item, installation, or assembly to detect damage, failure, or irregularity. Available lighting is normally supplemented with a direct source of good lighting at an intensity deemed appropriate. Inspection aids such as a mirror, magnifying lenses, etc., may be necessary. Surface cleaning and elaborate procedures may be required.

(i) Reporting Requirement

Submit a report of the findings (both positive and negative) of the inspection required by paragraph (g)(1) of this AD to Serge KIYMAZ, Structure Engineer, Structure Engineering—SEES1 CUSTOMER SERVICES, Phone: +33(0)5 82 05 10 33, Fax: +33(0)5 61 93 36 14, email: serge.kiymaz@airbus.com, at the applicable time specified in paragraph (i)(1) or (i)(2) of this AD. The report must include the information identified in Airbus AOT A52L010-14, dated September 30, 2014.

(1) If the inspection was done on or after the effective date of this AD: Submit the report within 30 days after the inspection.

(2) If the inspection was done before the effective date of this AD: Submit the report within 30 days after the effective date of this AD.

(j) Parts Installation Limitation

As of the effective date of this AD, installation of a forward cargo door having any part number specified in paragraphs (g)(1)(i) through (g)(1)(xii) of this AD is permitted on any airplane, provided that prior to installation, the door is inspected and, depending on the findings, corrected, in accordance with Airbus AOT A52L010-14, dated September 30, 2014, except as required by paragraph (k) of this AD.

(k) Exception to the Service Information

On page 1 of Airbus AOT A52L010-14, dated September 30, 2014, at section “2. Referenced Documentation,” “Ref. 5” specifies page block “PB.801,” which is incorrect. This page block should be “PB.401” instead.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM 116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES 200.

(m) Related Information

Refer to Mandatory Continuing Airworthiness Information (MCAI) EASA Airworthiness Directive 2014-0228, dated October 20, 2014, for related information. This MCAI may be found in the AD docket on the Internet at http://www.regulations.gov/#!documentDetail;D=FAA-2015-0675-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A52L010-14, dated September 30, 2014.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 25, 2015.
Michael Kaszycki,
Acting Manager, Transport Airplane Directorate, Aircraft Certification Service.

[FR Doc. 2015-30820 Filed 12-21-15; 8:45 am]

BILLING CODE 4910-13-P